INTERNATIONAL TRADE COMMISSION

[Investigation No. 337-TA-1191 (Modification Proceeding)]

Certain Audio Players and Controllers, Components Thereof, and Products Containing the Same; Notice of Commission Determination Not To Review an Initial Determination Terminating the Modification Proceeding Based on Withdrawal of the Petition; Termination of Modification Proceeding

AGENCY: U.S. International Trade Commission.

ACTION: Notice.

SUMMARY: Notice is hereby given that the U.S. International Trade Commission has determined not to review an initial determination (“ID”) (Order No. 70) of the presiding administrative law judge (“ALJ”) granting respondent Google LLC's (“Google”) unopposed motion to terminate the modification proceeding based on withdrawal of its petition for modification. The modification proceeding is hereby terminated.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On February 11, 2020, the Commission instituted this investigation based on a complaint filed by Sonos, Inc. (“Sonos”) of Santa Barbara, California. 85 FR 7783 (Feb. 11, 2020). The complaint alleges violations of section 337 of the Tariff Act of 1930, as amended (19 U.S.C. 1337) (“section 337”), based on the importation into the United States, the sale for importation, or the sale within the United States after importation of certain audio players and controllers, components thereof, and products containing the same by reason of infringement of certain claims of U.S. Patent Nos. 9,195,258; 10,209,953; 8,588,949; 9,219,959; and 10,439,896. Id. The complaint further alleges that a domestic industry exists. Id. The notice of investigation named as respondents Google and Alphabet Inc. (“Alphabet”), both of Mountain View, California. Id. The Office of Unfair Import Investigations (“OUII”) is also named as a party. Id.

On January 6, 2022, the Commission issued its final determination based on the record of the investigation (1) affirming with modified reasoning the ID's findings of violation of section 337 with respect to the asserted patents, (2) determining that the appropriate remedy is a LEO and CDO against Google, (3) finding that the public interest does not preclude this remedy, and (4) setting bond during the period of Presidential review at 100 percent of the entered value of the subject articles. See 87 FR 1784-85 (Jan. 12, 2022).

On July 14, 2022, Google filed a petition for a modification of the LEO and CDO pursuant to Commission Rule 210.76(a)(1) (19 CFR 210.76(a)(1)). On August 12, 2022, the Commission instituted a modification proceeding based on Google's petition. 87 FR 49885-86 (Aug. 12, 2022).

On October 11, 2022, Google filed an unopposed motion to withdraw its petition and terminate the modification proceeding without prejudice. On October 14, 2022, OUII filed a response in support of the motion. Sonos did not file a response to the motion.

On October 17, 2022, the ALJ issued the subject ID granting the motion. The ID finds that the motion complies with the requirements of Commission Rule 210.21(a)(1) (19 CFR 210.21(a)(1)) and that “no extraordinary circumstances exist that would prevent the requested termination of the modification proceeding.” ID at 2-3. No petitions for review of the subject ID were filed.

The Commission has determined not to review the subject ID. The modification proceeding is hereby terminated.

The Commission vote for this determination took place on October 27, 2022.

The authority for the Commission's determination is contained in section 337 of the Tariff Act of 1930, as amended (19 U.S.C. 1337), and in Part 210 of the Commission's Rules of Practice and Procedure (19 CFR part 210).

By order of the Commission.
Issued: October 27, 2022.
Katherine Hiner,
Acting Secretary to the Commission.

[FR Doc. 2022-23799 Filed 11-1-22; 8:45 am]

BILLING CODE 7020-02-P